DEPARTMENT OF TRANSPORTATION

Federal Railroad Administration

Safety Advisory 2010-02

AGENCY: Federal Railroad Administration (FRA), Department of Transportation (DOT).

ACTION: Notice of Safety Advisory; Signal Recording Devices for Highway-Rail Grade Crossing Active Warning Systems that are Interconnected with Highway Traffic Signal Systems.

SUMMARY: FRA is issuing Safety Advisory 2010-02 to address Safety Recommendations I-96-10 and I-96-11, issued by the National Transportation Safety Board (NTSB) that relate to railroad and highway signal recording devices at highway-rail grade crossings equipped with active warning systems that are interconnected with highway traffic signal systems. This safety advisory recommends that States, local highway authorities, and railroads install, maintain, and upgrade railroad and highway traffic signal recording devices at these types of grade crossings. This safety advisory also recommends that States, local highway authorities, and railroads conduct comprehensive periodic joint inspections of highway traffic signal pre-emption interconnections and use information obtained from any railroad and highway traffic signal recording devices during those inspections.

FOR FURTHER INFORMATION CONTACT: Ron Ries, Staff Director, Highway-Rail Grade Crossing & Trespasser Prevention Division, FRA, RRS-23, Mail Stop 25, 1200 New Jersey Avenue, SE., Washington, DC 20590 (telephone: (202) 493-6285); Thomas McFarlin, Staff Director, Signal & Train Control Division, FRA, RRS-13, Mail Stop 25, 1200 New Jersey Avenue, SE., Washington, DC 20590 (telephone: (202) 493-6203); or Kathy Shelton, Office of Chief Counsel, FRA, RCC-11, Mail Stop 10, 1200 New Jersey Avenue, SE., Washington, DC 20590 (telephone: (202) 493-6063).

SUPPLEMENTARY INFORMATION: In Safety Recommendation I-96-10, the NTSB recommended that DOT require the use and maintenance of railroad and highway traffic signal recording devices at all new and improved highway-rail grade crossings equipped with active warning systems that are interconnected with highway traffic signal systems. These devices should be capable of recording sufficient parameters to allow railroad and highway personnel to readily determine that the highway traffic signals and railroad active warning systems are operating properly and in a coordinated manner. The NTSB further recommended that DOT require the use of information obtained from these railroad and highway traffic signal recording devices during comprehensive and periodic joint inspections.

In Safety Recommendation I-96-11, the NTSB recommended that DOT require the retention or upgrading of existing recording devices installed at highway-rail grade crossings equipped with active railroad warning systems that are interconnected with highway traffic signal systems. In addition, the NTSB recommended that DOT require maintenance of these recording devices and the use of information obtained from the devices during comprehensive and periodic joint inspections.

Highway traffic signal pre-emption interconnections, when present, play a critical role in the proper functioning of a highway-rail grade crossing active warning system. By changing the sequence of the traffic signal to allow highway traffic to exit the crossing prior to the arrival of a train, they can prevent vehicle entrapment on the highway-rail grade crossing. Also, the changed traffic signal sequence prevents conflicting visual traffic control messages for motorists approaching highway-rail grade crossings located in close proximity to highway traffic control signals (i.e., a proceed highway traffic signal display into a nearby highway-rail grade crossing active warning system which is activated to indicate the approach or occupancy of a train).

In order to facilitate the proper functioning of the highway traffic signal pre-emption interconnection, 49 CFR 234.261 requires that railroads test each highway traffic signal pre-emption interconnection at least once each month. Therefore, States, local highway authorities, and railroads should identify which highway-rail grade crossings are equipped, or intended to be equipped, with a highway traffic signal pre-emption interconnection. If so equipped, railroads should ensure that the circuit plan shows the actual interconnection and the designed pre-emption time. Railroads should also ensure that the interconnection is in place and the train detection device (or equivalent) is programmed or equipped to provide the appropriate designed pre-emption function.

While FRA regulations require the testing of highway traffic signal pre-emption interconnections at least once a month, this requirement has historically only been applicable to the proper functioning of the railroad's control circuit to the highway traffic controller. While inspecting the highway traffic signal pre-emption interconnection, the actual operation of the highway traffic signal should be observed. Railroads should not rely solely on the operation of a relay or the opening of a control circuit to the traffic signal control housing. In fact, the preferred method of testing highway traffic signal pre-emption is by observation of a train movement and of the actual pre-emption function. Therefore, FRA recommends that railroads conduct comprehensive joint inspections of the highway traffic signal pre-emption interconnection with State and local highway authorities. These comprehensive joint inspections should be conducted when the highway-rail grade crossing active warning system is placed in service, whenever any portion of the system which may affect the proper function of the interconnection is modified or disarranged, and at least once every 12 months, during which observation of the actual pre-emption function and its effect on the highway traffic signal system can be made. These comprehensive periodic joint inspections should also include an inspection of the timing and operation of highway traffic signal systems that are interconnected with highway-rail grade crossing active warning devices, in order to ensure that the highway traffic signal system responds appropriately to the railroad control circuit and as designed. By conducting comprehensive periodic joint inspections, the railroad and State and local highway authorities can work together to observe and verify proper functioning of all necessary components of the highway traffic signal pre-emption upon activation of the highway-rail grade crossing active warning system.

Neither the Federal Highway Administration (FHWA) nor FRA require the retention or installation of railroad or highway signal recording devices at highway-rail grade crossings equipped with active warning systems that are interconnected with highway traffic signal systems. However, in recognition of the critical role served by highway traffic signal pre-emption interconnections with respect to the proper functioning of a highway-rail grade crossing active warning system, States, local highway authorities, and railroads are encouraged to install railroad and highway traffic signal recording devices at all new and improved highway-rail grade crossings that have (or will have) active warning systems which are (or will be) interconnected with highway traffic signal systems. Railroad and highway traffic signal recording devices can provide a record of any anomalies associated with the operation of the highway-rail grade crossing active warning system and/or the highway traffic signal system, which may prompt further investigation. Thus, as noted by the NTSB, these recording devices should be capable of recording sufficient parameters to allow railroad and highway personnel to readily determine that the highway traffic signals and railroad-activated warning systems are coordinated and operating properly.

States, local highway authorities, and railroads are also encouraged to maintain and upgrade existing railroad and highway traffic signal recording devices at highway-rail grade crossings that have active warning systems which are interconnected with highway signal systems. With respect to signal recording devices for highway-rail grade crossing active warning systems, older devices can record basic information such as approach time and estimated train speed. However, current signal recording devices for highway-rail grade crossing active warning systems can monitor a variety of system functions and provide reports on the “health” of the warning system, such as the status of the flashing light units, gate position, power supply, the presence of any grounded circuits, etc. Many modern traffic signal systems feature software that includes various event logs that get recorded in the traffic signal controller itself. These event logs are periodically retrieved by the central system software. Among the data retrieved would be any observed conflicts or preempts, as well as logs and diagnostics on the vehicle detector in-pavement “loops”. Recognizing that data provided by signal recording devices can assist States, local highway authorities, and railroads with the maintenance of interconnected highway-rail grade crossing active warning systems and highway traffic signal systems, FRA recommends that States, local highway authorities, and railroads use the data provided by these recording devices during their comprehensive periodic joint inspections to determine whether further investigation of any recorded operational anomalies may be warranted. It should be noted that railroad and highway traffic signal recording devices may be eligible for funding through FHWA's Railway-Highway Crossings Program (23 USC 130).

Recommended Action: Based on the foregoing discussion and to promote the safety of highway-rail grade crossings on the Nation's railroads, FRA recommends the following:

(1) Each State and local highway authority and railroad should conduct comprehensive joint inspections of highway traffic signal pre-emption interconnections when the highway-rail grade crossing active warning system is placed in service, whenever any portion of the system which may affect the proper function of the interconnection is modified or disarranged, and at least once every 12 months, during which observation of the actual pre-emption function and its effect on the highway traffic signal system can be made;

(2) Each State and local highway authority and railroad should install railroad and highway traffic signal recording devices at all new and improved highway-rail grade crossings that have active warning systems which are interconnected with highway traffic signal systems;

(3) Each State and local highway authority and railroad should maintain and upgrade existing railroad and highway traffic signal recording devices at highway-rail grade crossings that have active warning systems which are interconnected with highway traffic signal systems; and

(4) Each State and local highway authority and railroad should use the data provided by railroad and highway traffic signal recording devices during their comprehensive periodic joint inspections of interconnected highway-rail grade crossing active warning systems and highway traffic signal systems to determine whether further investigation of any recorded operational anomalies may be warranted.

States and local highway authorities and railroads are encouraged to take action consistent with the preceding recommendations to help ensure the safety of highway-rail grade crossings. FRA may modify this Safety Advisory 2010-02, or take other appropriate action necessary, to ensure the highest level of safety on the Nation's railroads.

Issued in Washington, DC, on September 27, 2010.
Jo Strang,
Associated Administrator for Railroad Safety/Chief Safety Officer.

[FR Doc. 2010-24702 Filed 9-30-10; 8:45 am]

BILLING CODE 4910-06-P